DEPARTMENT OF TRANSPORTATION

Federal Aviation Administration

Acceptance of Noise Exposure Maps for Indianapolis International Airport (IND), Indianapolis, Indiana

AGENCY: Federal Aviation Administration (FAA), DOT.

ACTION: Notice.

SUMMARY: The Federal Aviation Administration (FAA) announces its determination that the updated noise exposure maps submitted by the Indianapolis International Airport (IND) under the provisions of 49 U.S.C. 47501 et. seq (Aviation Safety and Noise Abatement Act) and 14 CFR part 150 are in compliance with applicable requirements.

DATES: This notice is effective April 18, 2014, and applicable April 8, 2014. The public comment period ends May 8, 2014.

FOR FURTHER INFORMATION CONTACT: Ms. Amy Hanson, Environmental Protection Specialist, CHI-603, Federal Aviation Administration, Chicago Airport District Office, 2300 East Devon Avenue, Des Plaines, IL 60018. Telephone number: 847-294-7354.

SUPPLEMENTARY INFORMATION: This notice announces that the FAA finds that the updated noise exposure maps submitted for Indianapolis International Airport (IND) are in compliance with applicable requirements of Title 14 Code of Federal Regulations (CFR) part 150, effective (Note 1). Under 49 U.S.C. 47503 of the Aviation Safety and Noise Abatement Act (hereinafter referred to as “the Act”), an airport operator may submit to the FAA noise exposure maps which meet applicable regulations and which depict non-compatible land uses as of the date of submission of such maps, a description of projected aircraft operations, and the ways in which such operations will affect such maps. The Act requires such maps to be developed in consultation with interested and affected parties in the local community, government agencies, and persons using the airport. An airport operator who has submitted noise exposure maps that are found by FAA to be in compliance with the requirements of 14 CFR part 150, promulgated pursuant to the Act, may submit a noise compatibility program for FAA approval which sets forth the measures the operator has taken or proposes to take to reduce existing non-compatible uses and prevent the introduction of additional non-compatible uses.

The FAA has completed its review of the updated noise exposure maps and accompanying documentation submitted by Indianapolis International Airport (IND). The documentation that constitutes the “noise exposure maps” as defined in section 150.7 of Part 150 includes: Exhibit NEM-1, Existing (2013) Noise Exposure Map; Exhibit NEM-2, Future (2018) Noise Exposure Map; Table 1, Distribution of Average Daily Operations by Aircraft Type Existing (2013) Conditions; Exhibit 2, Noise Abatement Flight Paths (Day—7:00AM to 7:00PM); Exhibit 3, Noise Abatement Flight Paths (Evening and Night—7:00PM to 7:00AM); Exhibit 4, North Flow Large Passenger Jet INM Flight Tracks; Exhibit 5, North Flow Large Cargo Jet INM Flight Tracks; Exhibit 6, North Flow Regional/Air Taxi Jet INM Flight Tracks;

Exhibit 7, North Flow Propeller Aircraft INM Flight Tracks; Exhibit 8, South Flow Large Passenger Jet INM Flight Tracks; Exhibit 9, South Flow Large Cargo Jet INM Flight Tracks; Exhibit 10, South Flow Regional/Air Taxi Jet INM Flight Tracks; Exhibit 11, South Flow Propeller Aircraft INM Flight Tracks; Exhibit 12, Existing (2013) Noise Exposure Contour; Exhibit 13, Existing (2013) Noise Exposure Contour Compared to (Previous) Future 2008 NEM/NCP (from 2008 Update); Exhibit 14, INM Grid Point Locations; Exhibit 15, Future (2018) Noise Exposure Contour; Exhibit 16, Future (2018) Noise Exposure Contour compared to Existing (2013) Noise Exposure Contour; and Exhibit 17, Completed Land Use and Environmental Mitigation Program Boundaries.

The FAA has determined that these updated noise exposure maps and accompanying documentation are in compliance with applicable requirements. This determination is effective on April 3, 2014. FAA's determination on an airport operator's noise exposure maps is limited to a finding that the maps were developed in accordance with the procedures contained in Appendix A of FAR part 150. Such determination does not constitute approval of the applicant's data, information or plans, or a commitment to approve a noise compatibility program or to fund the implementation of that program.

If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties should be covered by the provisions of section 47506 of the Act. These functions are inseparable from the ultimate land use control and planning responsibilities of local government. These local responsibilities are not changed in any way under part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under section 150.21 of FAR part 150, that the statutorily required consultation has been accomplished.

Copies of the full updated noise exposure map documentation and of the FAA's evaluation of the maps are available for examination, upon prior appointment during normal business hours, at the following locations: Indianapolis Airport Authority, 7800 Col. H. Weir Cook Memorial Drive, Indianapolis, Indiana 46241. Federal Aviation Administration, Chicago Airports District Office, 2300 E. Devon, Suite 320, Des Plaines, IL 60018.

Questions may be directed to the individual named above under the heading FOR FURTHER INFORMATION CONTACT.

Issued in Des Plaines, IL, April 8, 2014.
James G. Keefer,
Manager, Chicago Airports District Office, FAA Great Lakes Region.

[FR Doc. 2014-08914 Filed 4-17-14; 8:45 am]

BILLING CODE 4910-13-P